DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory and Deregulatory Agenda; Semiannual Summary

AGENCY: Office of the Secretary, DOT.

ACTION: Unified Agenda of Federal Regulatory and Deregulatory Actions (Regulatory Agenda).

SUMMARY: The Regulatory Agenda is a semiannual summary of all current and projected rulemakings, reviews of existing regulations, and completed actions of the Department of Transportation. The intent of the Agenda is to provide the public with information about the Department of Transportation's regulatory activity planned for the next 12 months. It is expected that this information will enable the public to participate more effectively in the Department's regulatory process. The public is also invited to submit comments on any aspect of this Agenda.

FOR FURTHER INFORMATION CONTACT:

General

You should direct all comments and inquiries on the Agenda in general to Daniel Cohen, Assistant General Counsel for Regulation, Office of the General Counsel, Department of Transportation, 1200 New Jersey Avenue SE, Washington, DC 20590; (202) 366-4702.

Specific

You should direct all comments and inquiries on items in the Agenda to the individual listed for the regulation or the general rulemaking contact person for the operating administration in appendix B.

Table of Contents

Supplementary Information

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

The U.S. Department of Transportation (Department or DOT) issues regulations to ensure that the United States transportation system is the safest in the world and address other urgent challenges facing the Nation, including the coronavirus disease 2019 (COVID-19) pandemic, job creation, equity, and climate change. These issues are addressed, in part, by encouraging innovation, thereby ensuring that the Department's regulations keep pace with the latest developments and reflect its top priorities.

To help the Department achieve its goals and in accordance with Executive Order (E.O.) 12866, “Regulatory Planning and Review,” (58 FR 51735; Oct. 4, 1993), the Department prepares a semiannual Agenda. The Agenda summarizes all current and projected rulemakings, reviews of existing regulations, and completed actions of the Department. These are matters on which action has begun or is projected to begin during the next 12 months or for which action has been completed since the publication of the last Agenda in July 2021.

The Department's actions are also governed by several recent executive orders issued by the President, which direct agencies to utilize all available regulatory tools to address current national challenges. On January 20, 2021, the President signed Executive Order 13992, Revocation of Certain Executive Orders Concerning Federal Regulation. This Executive Order directs Federal agencies to promptly take steps to rescind any orders, rules, regulations, guidelines, or policies that would hamper the agencies' flexibility to use robust regulatory action to address national priorities. On January 20, the President also issued Executive Order 13990, Protecting Public Health and the Environment and Restoring Science To Tackle the Climate Crisis. This Executive Order directs Federal agencies to review all regulatory actions issued in the previous Administration and revise or rescind any of those actions that do not adequately respond to climate change, protect the environment, advance environmental justice, or improve public health. Section 2(a)(ii) of Executive Order 13990 specifically requires the Department of Transportation to review “The Safer Affordable Fuel-Efficient (SAFE) Vehicles Rule Part One: One National Program,” 84 FR 51310 (September 27, 2019) (SAFE I Rule) and “The Safer Affordable Fuel-Efficient (SAFE) Vehicles Rule for Model Years 2021-2026 Passenger Cars and Light Trucks,” 85 FR 24174 (April 30, 2020) (SAFE II Rule).

On July 9, 2021, the President signed Executive Order 14036, Promoting Competition in the American Economy. Among other things, this Executive Order requires the Department to enhance consumer access to airline flight information and ensure that consumers are not exposed or subject to advertising, marketing, pricing, and charging of ancillary fees that may constitute an unfair or deceptive practice or an unfair method of competition. This Executive Order also requires the Department to: (1) Publish a notice of proposed rulemaking (NPRM) requiring airlines to refund baggage fees when a passenger's luggage is substantially delayed and other ancillary fees when passengers pay for a service that is not provided; and (2) consider initiating a rulemaking to ensure that consumers have ancillary fee information, including “baggage fees,” “change fees,” and “cancellation fees,” at the time of ticket purchase.

On August 5, 2021, the President signed Executive Order 14037, Strengthening American Leadership in Clean Cars and Trucks. This Executive Order requires that the Department consider beginning work on a rulemaking to establish new fuel economy standards for passenger cars and light-duty trucks beginning with model year 2027 and extending through and including at least model year 2030. This Executive Order also requires the Department to consider beginning work on a rulemaking to establish new fuel efficiency standards for heavy-duty pickup trucks and vans beginning with model year 2028 and extending through and including at least model year 2030. Finally, this Executive Order requires the Department to consider beginning work on a rulemaking to establish new fuel efficiency standards for medium- and heavy-duty engines and vehicles to begin as soon as model year 2030.

In response to Executive Order 13992, in April 2021, the Department issued a final rule revising the regulations governing its regulatory process to ensure that it has the maximum flexibility necessary to quickly respond to the urgent challenges facing our Nation. Following implementation of the final rule, in June 2021, the Secretary of Transportation signed a Departmental Order strengthening the Department's internal rulemaking procedures and revitalizing the partnership between Operating Administrations and the Office of the Secretary in promulgating regulations to better achieve the Department's goals and priorities. As part of this critical overhaul, a Regulatory Leadership Group was established, led by the Deputy Secretary of Transportation, which provides vital legal and policy guidance on the Department's regulatory agenda.

In response to Executive Order 13990, in May 2021, the Department issued a notice of proposed rulemaking (NPRM) proposing to repeal the SAFE I Rule and associated guidance documents. In August 2021, the Department issued a Supplemental Notice of Proposed Rulemaking inviting comments on the appropriate path forward regarding civil penalties imposed for violations of DOT's vehicle emissions rules. Finally, in September 2021, the Department issued an NPRM proposing more stringent vehicle emission limits than those set by the SAFE II Rule.

In response to Executive Orders 14036 and 14037, the Department is considering the following rulemakings: (1) Refunding Fees for Delayed Checked Bags and Ancillary Services That Are Not Provided; (2) Airline Ticket Refunds; (3) Amendments to Department's Procedures in Regulating Unfair and Deceptive Practices; and (4) fuel economy standards for passenger cars, light-duty trucks, heavy-duty pickup trucks, and vans.

The Department is also providing rapid response to, and emergency review of legal and operational challenges presented by COVID-19 within the transportation network. Since the beginning of this Administration, our efforts have focused on ensuring compliance with the mask requirements issued by the Centers for Disease Control and Prevention and the Transportation Security Administration. These requirements help reduce the spread of the COVID-19 disease within the transportation sector and among the traveling public. DOT is also addressing regulatory compliance made impracticable by the COVID-19 public health emergency due to office closures, personnel shortages, and other restrictions.

In addition to the pressing national concerns discussed above, the Department's regulatory activities are directed toward the fundamental priority of protecting public safety. Safety is our North Star; the Department remains focused on managing safety risks and ensuring that the United States has the safest transportation system in the world. Our planned regulatory actions reflect a careful balance that emphasizes the Department's robust response to the challenges facing our Nation while at the same time maintaining a safe, reliable, and sustainable transportation system that boosts our economic productivity and global competitiveness and enhances the quality of life for all Americans.

Explanation of Information in the Agenda

An Office of Management and Budget memorandum, dated August 16, 2021, establishes the format for this Agenda.

First, the Agenda is divided by initiating office. Then, the Agenda is divided into five categories: (1) Prerule stage; (2) proposed rule stage; (3) final rule stage; (4) long-term actions; and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for when a rulemaking document may publish; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act.

To keep the operational requirements, current for nonsignificant regulations issued routinely and frequently as a part of an established body of technical requirements (such as the Federal Aviation Administration's Airspace Rules), we only include the general category of the regulations, the identity of a contact office or official, and an indication of the expected number of regulations; we do not list individual regulations.

In the “Timetable” column, we use abbreviations to indicate the documents being considered. ANPRM stands for Advance Notice of Proposed Rulemaking, SNPRM for Supplemental Notice of Proposed Rulemaking, and NPRM for Notice of Proposed Rulemaking. Listing a future date in this column does not mean we have decided to issue a document; it is the earliest date on which a rulemaking document may publish. In addition, these dates are based on current schedules. Information received after the issuance of this Agenda could result in a decision not to take regulatory action or in changes to proposed publication dates. For example, the need for further evaluation could result in a later publication date; evidence of a greater need for the regulation could result in an earlier publication date.

Finally, a dot (•) preceding an entry indicates that the entry appears in the Agenda for the first time.

The internet is the basic means for disseminating the Unified Agenda. The complete Unified Agenda is available online at www.reginfo.gov in a format that offers users a greatly enhanced ability to obtain information from the Agenda database. However, a portion of the Agenda is published in the Federal Register because the Regulatory Flexibility Act (5 U.S.C. 602) mandates publication for the regulatory flexibility agenda.

Accordingly, DOT's printed Agenda entries include only:

1. The agency's Agenda preamble.

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the internet.

Request for Comments

General

DOT's Agenda is intended primarily for the use of the public. Since its inception, the Department has made modifications and refinements that provide the public with more helpful information, as well as making the Agenda easier to use. We would like you, the public, to make suggestions or comments on how the Agenda could be further improved.

Regulatory Flexibility Act

The Department is interested in obtaining information on requirements that have a “significant economic impact on a substantial number of small entities” and, therefore, must be reviewed under the Regulatory Flexibility Act. If you have any suggested regulations, please submit them to the Department, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require the Department to develop a process to ensure “meaningful and timely input” by State, local, and tribal officials in the development of regulatory policies that have federalism or tribal implications. These policies are defined in the Executive orders to include regulations that have “substantial direct effects” on States or Indian tribes, on the relationship between the Federal Government and them, or on the distribution of power and responsibilities between the Federal Government and various levels of Government or Indian tribes. Therefore, we encourage State and local Governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department about any specific item on the Agenda. Regulatory action, in addition to the items listed, is not precluded.

Dated: September 13, 2021.
Peter Paul Montgomery Buttigieg,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the internet at http://www.regulations.gov. See appendix C for more information.

Appendix B—General Rulemaking Contact Persons

The following is a list of persons who can be contacted within the Department for general information concerning the rulemaking process within the various operating administrations.

FAA—Timothy R. Adams, Acting Executive Director, Office of Rulemaking, 800 Independence Avenue SW, Washington, DC 20591; telephone (202) 267-9677.

FHWA—Jennifer Outhouse, Office of Chief Counsel, 1200 New Jersey Avenue SE, Washington, DC 20590; telephone (202) 366-0761.

FMCSA—Steven J. LaFreniere, Regulatory Ombudsman, 1200 New Jersey Avenue SE, Washington, DC 20590; telephone (202) 366-0596.

NHTSA—Dee Fujita, Office of Chief Counsel, 1200 New Jersey Avenue SE, Washington, DC 20590; telephone (202) 366-2992.

FRA—Amanda Maizel, Office of Chief Counsel, 1200 New Jersey Avenue SE, Washington, DC 20590; telephone (202) 493-8014.

FTA—Chaya Koffman, Office of Chief Counsel, 1200 New Jersey Avenue E, Washington, DC 20590; telephone (202) 366-3101.

GLS—Carrie Mann Lavigne, Chief Counsel, 180 Andrews Street, Massena, NY 13662; telephone (315) 764-3200.

PHMSA—Robert Ross, Office of Chief Counsel, 1200 New Jersey Avenue SE, Washington, DC 20590; telephone (202) 768-1365.

MARAD—Gabriel Chavez, Office of Chief Counsel, Maritime Administration, 1200 New Jersey Avenue SE, Washington, DC 20590; telephone (202) 366-2621.

OST—Daniel Cohen, Assistant General Counsel for Regulation, 1200 New Jersey Avenue SE, Washington, DC 20590; telephone (202) 366-4723.

Appendix C—Public Rulemaking Dockets

All comments submitted via the internet are submitted through the Federal Docket Management System (FDMS) at the following address: http://www.regulations.gov. The FDMS allows the public to search, view, download, and comment on all Federal agency rulemaking documents in one central online system. The above referenced internet address also allows the public to sign up to receive notification when certain documents are placed in the dockets.

The public also may review regulatory dockets at or deliver comments on proposed rulemakings to the Dockets Office at 1200 New Jersey Avenue SE, Room W12-140, Washington, DC 20590, 1-800-647-5527. Working Hours: 9:00 a.m. to 5:00 p.m.

Appendix D—Review Plans for Section 610 and Other Requirements

Part I—The Plan

General

The Department of Transportation has long recognized the importance of regularly reviewing its existing regulations to determine whether they need to be revised or revoked. Our Regulatory Policies and Procedures require such reviews. DOT also has responsibilities under section 610 of the Regulatory Flexibility Act, Executive Order 12866, “Regulatory Planning and Review,” and Executive Order 13563, “Improving Regulation and Regulatory Review,” 76 FR 3821 (January 18, 2011) to conduct such reviews. We are committed to continuing our reviews of existing rules and, if it is needed, will initiate rulemaking actions based on these reviews. The Department began a new 10-year review cycle with the Fall 2018 Agenda.

Section 610 Review Plan

Section 610 requires that we conduct reviews of rules that: (1) Have been published within the last 10 years; and (2) have a “significant economic impact on a substantial number of small entities” (SEISNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Most agencies provide historical information about the reviews that have occurred over the past 10 years. Thus, Year 1 (2018) begins in the fall of 2018 and ends in the fall of 2019; Year 2 (2019) begins in the fall of 2019 and ends in the fall of 2020, and so on. The exception to this general rule is the FAA, which provides information about the reviews it completed for this year and prospective information about the reviews it intends to complete in the next 10 years. Thus, for FAA Year 1 (2017) begins in the fall of 2017 and ends in the fall of 2018; Year 2 (2018) begins in the fall of 2018 and ends in the fall of 2019, and so on. We request public comment on the timing of the reviews. For example, is there a reason for scheduling an analysis and review for a particular rule earlier than we have? Any comments concerning the plan or analyses should be submitted to the regulatory contacts listed in appendix B, General Rulemaking Contact Persons.

Section 610 Review

The agency will analyze each of the rules in each year's group to determine whether any rule has a SEISNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to the Department early in the analysis year concerning the small entity impact of the rules to help us in making our determinations.

In each Fall Agenda, the agency will publish the results of the analyses it has completed during the previous year. For rules that had a negative finding on SEISNOSE, we will give a short explanation (e.g., “these rules only establish petition processes that have no cost impact” or “these rules do not apply to any small entities”). For parts, subparts, or other discrete sections of rules that do have a SEISNOSE, we will announce that we will be conducting a formal section 610 review during the following 12 months. At this stage, DOT will add an entry to the Agenda in the pre-rulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each Fall Agenda, the agency will also publish information on the results of the examinations completed during the previous year.

Part III—List of Pending Section 610 Reviews

The Agenda identifies the pending DOT section 610 Reviews by inserting “(Section 610 Review)” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

Year | Regulations to be reviewed | Analysis year | Review year
1 | 49 CFR parts 91 through 99 | 2018 | 2019
| 14 CFR parts 200 through 212
| 48 CFR parts 1201 through 1224
2 | 48 CFR parts 1227 through 1253 and new parts and subparts | 2019 | 2020
3 | 14 CFR parts 213 through 232 | 2020 | 2021
4 | 14 CFR parts 234 through 254 | 2021 | 2022
5 | 14 CFR parts 255 through 298 and 49 CFR part 40 | 2022 | 2023
6 | 14 CFR parts 300 through 373 | 2023 | 2024
7 | 14 CFR parts 374 through 398 | 2024 | 2025
8 | 14 CFR part 399 and 49 CFR parts 1 through 15 | 2025 | 2026
9 | 49 CFR parts 17 through 28 | 2026 | 2027
10 | 49 CFR parts 29 through 39 and parts 41 through 89 | 2027 | 2028

Year 10 (Fall 2018) List of Rules Analyzed and Summary of Results

49 CFR part 30—Denial of Public Works Contracts to Suppliers of Goods and Services of Countries that Deny Procurement Market Access to U.S. Contractors

• Section 610: OST conducted a Section 610 review of this part and found no SEISNOSE.

• General: No changes are needed. These regulations are cost effective and impose the least burden. OST's plain language review of these rules indicates no need for substantial revision.

49 CFR part 31—Program Fraud Civil Remedies

• Section 610: OST conducted a Section 610 review of this part and found no SEISNOSE.

• General: No changes are needed. These regulations are cost effective and impose the least burden. OST's plain language review of these rules indicates no need for substantial revision.

49 CFR part 37—Transportation Services for Individuals with Disabilities (ADA)

• The U.S. Department of Transportation (DOT) Office of the Secretary (OST), with the assistance of its Operating Administrations, including the Federal Transit Administration (FTA), is in the process of issuing multiple rulemakings that call for changes to the regulatory language in 49 CFR part 37. Specifically, OST is administering a rulemaking titled: “Transportation for Individuals with Disabilities; Service Animals and Technical Corrections” (RIN 2105-AF08) which would propose changes to the definition of “service animal” in 49 CFR part 37.3, and several other technical corrections to outdated provisions, such as that referencing a make and model of a lift that has been out of production for three decades (49 CFR part 37.165(g)). In addition, OST is developing a rulemaking titled “Equitable Access to Transit Facilities” (RIN 2105-AF07) in which DOT would consider requirements for secondary elevators, induction loops, and improvements in wayfinding in transit stations. In conjunction with these pending rulemakings, DOT will need to conduct a section 610 review of this part, and, if appropriate, initiate additional rulemaking(s) to minimize the SEISNOSE, bring the regulation into compliance with statutory requirements, and/or revise the regulation for plain language.

49 CFR part 38—Americans with Disabilities Act (ADA) Accessibility Specifications for Transportation Vehicles

• The U.S. Department of Transportation (DOT) Office of the Secretary (OST), with the assistance of its Operating Administrations, including the Federal Transit Administration (FTA), is in the process of issuing a rulemaking that calls for changes to the regulatory language in 49 CFR part 38. Specifically, OST is developing a rulemaking titled: “Transportation for Individuals with Disabilities; Adoption of Accessibility Standards for Buses and Vans” (RIN 2105-AF09) in order to consider new standards for accessible buses and vans based on updated accessibility guidelines issued by the U.S. Access Board (USAB) on December 14, 2016. In conjunction with this pending rulemaking, OST will need to conduct a Section 610 review of this part, and, if appropriate, initiate additional rulemaking(s) to minimize the SEISNOSE, bring the regulation into compliance with statutory requirements, and/or revise the regulation for plain language.

49 CFR part 39—Transportation for Individuals with Disabilities: Passenger Vessels

• Section 610: The U.S. Department of Transportation (DOT) Office of the Secretary (OST) conducted a Section 610 review of this part and found SEISNOSE. The regulation requires owners and operators of passenger vessels to (1) ensure their vessels and related facilities are accessible; and (2) take steps to accommodate passengers with disabilities. These requirements can entail significant investments from owners and operators of passenger vessels, many of whom qualify as small businesses as defined by the U.S. Small Business Administration. OST plans to explore whether it is appropriate to initiate a rulemaking to revise this regulation to minimize the SEISNOSE.

• General: The definition of “service animal” contained in 49 CFR 39.3 is inconsistent with the amendments made by the Department of Justice (DOJ) on July 23, 2010, (see 28 CFR 35.104 and 35.136), as well as the definition under DOT's Air Carrier Access Act regulations (see 14 CFR 382.3), as amended on December 10, 2020. The current requirement under 49 CFR 39.3 defines service animals as “any guide dog, signal dog, or other animal individually trained to work or perform tasks for an individual with a disability.” DOJ defines a service animal in terms of “any dog that is individually trained to do work or perform tasks for the benefit of an individual with a disability, including a physical, sensory, psychiatric, intellectual, or other mental disability” (see 28 CFR 35.104) (emphasis added). And under 28 CFR 35.136(i), reasonable modifications in policy and practices must be made where necessary to accommodate miniature horses as service animals. As such, failure to update this regulation will leave the passenger vessel industry subject to accommodating unusual service animals, such as reptiles and primates. On the other hand, updating the definition of “service animal” under 49 CFR 39.3 will ensure consistency across Federal regulations, which is essential to removing the confusion that results for individuals with service animals when different standards apply to different public facilities and modes of transportation. OST has already recognized the need to update the “service animal” definition contained in 49 CFR 37.3 for the aforementioned reasons and is in the process of developing a rulemaking titled: “Transportation for Individuals with Disabilities; Service Animals and Technical Corrections” (RIN 2105-AF08) in order to make the necessary change.

In addition, 49 CFR 39.31 addresses the ability of passenger vessel owners or operators to limit access to or use of their vessels because a passenger has a communicable disease. The regulation permits owners or operators to limit access or use where: (1) A U.S. or international public health authority has determined that persons with a particular condition should not be permitted to travel or should travel only under specified conditions; or (2) an individual has a condition that is both readily transmissible by casual contact in the context of traveling on or using a passenger vessel and has serious health consequences. The regulation provides examples of conditions that passengers may have (e.g., a common cold, HIV/AIDS, SARS, or a norovirus) and the appropriate actions (if any) that passenger vessel owners or operators may take in response. However, the regulation does not address how passenger vessel owners or operators should handle passengers with the novel Coronavirus Disease 2019 (COVID-19). Given the ubiquity of the virus and its likely presence and impact in the future, the regulation should be revised to expressly address COVID-19 in the example section.

As a result, OST will need to conduct a rulemaking to bring this regulation into compliance with the statutory requirements and to bring consistency to the regulatory regime governing different modes of transportation. OST's plain language review of this regulation indicates no need for substantial revision.

It is also worth noting that the U.S. Access Board (USAB) is in the process of developing guidelines under the Americans with Disabilities Act (ADA) for access to ferries, cruise ships, excursion boats, and other large passenger vessels. Those guidelines have not been finalized yet, however, and OST proposes incorporating only final guidelines into DOT's regulations.

49 CFR part 71—Standard Time Zone Boundaries

• Section 610: OST has reviewed these regulations and found no SEISNOSE.

• General: OST has reviewed these regulations and found that some nonsubstantive technical corrections are needed. OST is exploring initiating a rulemaking to make these corrections.

49 CFR part 79—Medals of Honor

• Section 610: The U.S. Department of Transportation (DOT) Office of the Secretary (OST) conducted a Section 610 review of this part and found no SEISNOSE.

• General: No changes are needed. These regulations are cost effective and impose the least burden. OST's plain language review of these rules indicates no need for substantial revision.

Year 1 (Fall 2018) List of Rules That Are Under Ongoing Analysis

• Section 610: OST conducted a Section 610 review of this part and found no SEISNOSE.

• General: Since the rule was enacted, the DOT Operating Administrations have changed. As a result, the agencies listed at 49 CFR 92.5(g)—Definitions should be revised to:

(g) DOT operating element (see 49 CFR 1.3) means a DOT Operating Administration including—

(1) The Office of the Secretary.

(2) Federal Aviation Administration.

(3) Federal Highway Administration.

(4) Federal Railroad Administration.

(5) National Highway Traffic Safety Administration.

(6) Office of the Inspector General.

(7) St. Lawrence Seaway Development Corporation.

(8) Maritime Administration.

OST will be conducting a rulemaking to make these revisions. These regulations are cost effective and impose the least burden. OST's plain language review of these rules indicates no need for substantial revision.

49 CFR part 93—Aircraft Allocation

49 CFR part 98—Enforcement of Restrictions on Post-Employment Activities

• Section 610: OST conducted a Section 610 review of this part and found no SEISNOSE.

• General: Since the rule was enacted, the U.S. Department of Transportation's organizational structure changed, and as a result the list of DOT Operating Administrations (OAs) listed in 49 CFR 98.2 must be updated to reflect the current listing of DOT OAs. The following changes are needed in 49 CFR 89.2(a): (1) References to the U.S. Coast Guard (at 49 CFR 98.2(a)(1)), Urban Mass Transportation Administration (at 49 CFR 98.2(a)(6), and Research and Special Programs Administration (at 49 CFR 98.2(a)(8) should be deleted; (2) reference to the Saint Lawrence Seaway Development Corporation at 49 CFR 98.2(a)(7) should be changed to the Great Lakes Saint Lawrence Seaway Development Corporation; and (3) references to the Federal Motor Carrier Safety Administration, Federal Transit Administration, and Pipeline and Hazardous Materials Safety Administration should be added. In addition, since the rule was enacted, the title of the Assistant General Counsel for Environmental, Civil Rights, and General Law has been updated to the Assistant General Counsel for General Law, so the following changes are needed in 49 CFR 98.3 and 98.4: References to the Assistant General Counsel for Environmental, Civil Rights, and General Law should be updated to the Assistant General Counsel for General Law. OST's plain language review of these rules indicates no need for substantial revision.

49 CFR part 99—Employee Responsibilities and Conduct

• Section 610: OST conducted a Section 610 review of this part and found no SEISNOSE.

• General: No changes are needed. These regulations are cost effective and impose the least burden. OST's plain language review of these rules indicates no need for substantial revision.

14 CFR part 200—Definitions and Instructions

14 CFR part 201—Air Carrier Authority under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

48 CFR part 1201—Federal Acquisition Regulations System

48 CFR part 1202—Definitions of Words and Terms

48 CFR part 1203—Improper Business Practices and Personal Conflicts of Interest

48 CFR part 1204—Administrative Matters

48 CFR part 1205—Publicizing Contract Actions

48 CFR part 1206—Competition Requirements

48 CFR part 1207—Acquisition Planning

48 CFR part 1208-1210—[Reserved]

48 CFR part 1211—Describing Agency Needs

48 CFR part 1213—Simplified Acquisition Procedures

48 CFR part 1214—Sealed Bidding

48 CFR part 1215—Contracting by Negotiation

48 CFR part 1216—Types of Contracts

48 CFR part 1217—Special Contracting Methods

48 CFR part 1219—Small Business Programs

48 CFR part 1222—Application of Labor Laws to Government Acquisitions

48 CFR part 1223—Environment, Energy and Water Efficiency, Renewable Energy Technologies, Occupational Safety, and Drug-Free Workplace

48 CFR part 1224—Protection of Privacy and Freedom of Information

Year 2 (Fall 2019) List of Rules Analyzed and Summary of Results

48 CFR parts 1227 through 1253 and new parts and subparts

48 CFR part 1227—Patents, Data, and Copyrights

48 CFR part 1228—Bonds and Insurance

48 CFR part 1231—Contract Costs Principles and Procedures

48 CFR part 1232—Contract Financing

48 CFR part 1233—Protests, Disputes, and Appeals

48 CFR part 1235—Research and Development Contracting

48 CFR part 1236—Construction and Architect-Engineer Contracts

48 CFR part 1237—Service Contracting

48 CFR part 1239—Acquisition of Information Technology

48 CFR part 1242—Contract Administration and Audit Services

48 CFR part 1245—Government Contracting

48 CFR part 1246—Quality Assurance

48 CFR part 1247—Transportation

48 CFR part 1252—Solicitation Provisions and Contract Clauses

48 CFR part 1253—Forms

DOT has determined that updates need to be made to the regulations identified under Year 2. The regulations will be updated as part of RIN 2105-AE26 (Revisions to the Transportation Acquisition Regulations).

Year 3 (Fall 2020) List of Rules Analyzed and Summary of Results

14 CFR parts 213 through 232

14 CFR 213—Terms, Conditions and Limitations of Foreign Air Carrier Permits

• Section 610: OST conducted a Section 610 review of this part and found no SEISNOSE.

• General: No changes are needed. These regulations are cost effective and impose the least burden.

14 CFR 214—Terms, Conditions, and Limitations for Foreign Air Carrier Permits Authorizing Charter Transportation Only

• Section 610: OST conducted a Section 610 review of this part and found no SEISNOSE.

• General: No changes are needed. These regulations are cost effective and impose the least burden.

14 CFR 215—Use and Change of Names of Air Carriers, Foreign Air Carriers and Commuter Air Carriers

• Section 610: OST conducted a Section 610 review of this part and found no SEISNOSE.

• General: No changes are needed. These regulations are cost effective and impose the least burden.

14 CFR 216—Commingling of Blind Sector Traffic by Foreign Air Carriers

• Section 610: OST conducted a Section 610 review of this part and found no SEISNOSE.

• General: No changes are needed. These regulations are cost effective and impose the least burden.

14 CFR 218—Lease by Foreign Air Carrier or Other Foreign Person of Aircraft with Crew

• Section 610: OST conducted a Section 610 review of this part and found no SEISNOSE.

• General: No changes are needed. These regulations are cost effective and impose the least burden.

14 CFR 221—TARIFFS

• Section 610: OST conducted a Section 610 review of this part and found no SEISNOSE.

• General: OST reviewed and has found that a non-substantive technical correction is necessary and will explore options to make this correction.

14 CFR 222—Intermodal Cargo Services by Foreign Air Carriers

• Section 610: OST conducted a Section 610 review of this part and found no SEISNOSE.

• General: No changes are needed. These regulations are cost effective and impose the least burden.

14 CFR 223—Free and Reduced-Rate Transportation

• Section 610: OST conducted a Section 610 review of this part and found no SEISNOSE.

• General: No changes are needed. These regulations are cost effective and impose the least burden.

Federal Aviation Administration

Section 610 and Other Reviews

The Federal Aviation Administration (FAA) has elected to use the two-step, two-year process used by most Department of Transportation (DOT) modes in past plans. As such, the FAA has divided its rules into 10 groups as displayed in the table below. During the first year (the “analysis year”), all rules published during the previous 10 years within a 10% block of the regulations will be analyzed to identify those with a significant economic impact on a substantial number of small entities (SEISNOSE). During the second year (the “review year”), each rule identified in the analysis year as having a SEISNOSE will be reviewed in accordance with section 610 (b) to determine if it should be continued without change or changed to minimize impact on small entities. Results of those reviews will be published in the DOT Semiannual Regulatory Agenda.

Year | Regulations to be reviewed | Analysis year | Review year
1 | 14 CFR parts 141 through 147 and parts 170 through 187 | 2020 | 2021
2 | 14 CFR parts 189 through 198 and parts 1 through 16 | 2021 | 2022
3 | 14 CFR parts 17 through 33 | 2022 | 2023
4 | 14 CFR parts 34 through 39 and parts 400 through 405 | 2023 | 2024
5 | 14 CFR parts 43 through 49 and parts 406 through 415 | 2024 | 2025
6 | 14 CFR parts 60 through 77 | 2025 | 2026
7 | 14 CFR parts 91 through 107 | 2026 | 2027
8 | 14 CFR parts 417 through 460 | 2027 | 2028
9 | 14 CFR parts 119 through 129 and parts 150 through 156 | 2028 | 2029
10 | 14 CFR parts 133 through 139 and parts 157 through 169 | 2029 | 2030

Defining SEISNOSE for FAA Regulations

The RFA does not define “significant economic impact.” Therefore, there is no clear rule or number to determine when a significant economic impact occurs. However, the Small Business Administration (SBA) states that significance should be determined by considering the size of the business, the size of the competitor's business and the impact the same regulation has on larger competitors.

Likewise, the RFA does not define “substantial number.” However, the legislative history of the RFA suggests that a substantial number must be at least one but does not need to be an overwhelming percentage such as more than half. The SBA states that the substantiality of the number of small businesses affected should be determined on an industry-specific basis.

This analysis consisted of the following three steps:

1. Review of the number of small entities affected by the amendments to parts 141 through 147 and parts 170 through 187.

2. Identification and analysis of all amendments to parts 141 through 147 and parts 170 through 187 since July 2010 to determine whether any still have or now have a SEISNOSE.

3. Review of the FAA's regulatory flexibility assessment of each amendment performed as required by the RFA.

Year 2 (Fall 2021) List of Rules Analyzed

14 CFR part 1—Definitions and abbreviations

14 CFR part 3—General requirements

14 CFR part 11—General rulemaking procedures

14 CFR part 13—Investigative and enforcement procedures

14 CFR part 14—Rules implementing the Equal Access to Justice Act of 1980

14 CFR part 15—Administrative claims under Federal Tort Claims Act

14 CFR part 16—Rules of practice for Federally-assisted airport enforcement proceedings

14 CFR part 189—Use of Federal Aviation Administration communications system

14 CFR part 193—Protection of voluntarily submitted information

14 CFR part 198—Aviation insurance

Year 1 (Fall 2020) List of Rules Analyzed and Summary of Results

14 CFR part 141—Pilot Schools

14 CFR part 142—Training Centers

14 CFR part 143—Reserved

14 CFR part 144—Does not exist

14 CFR part 145—Repair Stations

14 CFR part 146—Does not exist

14 CFR part 147—Aviation Maintenance Technician Schools

14 CFR part 170—Establishment and Discontinuance Criteria for Air Traffic Control Services and Navigational Facilities

14 CFR part 171—Non-Federal Navigation Facilities

14 CFR part 172—through 182 Does not exist

14 CFR part 183—Representatives of the Administrator

14 CFR part 184—Does not exist

Year 1 (2020) List of Rules Analyzed and Summary of Results

14 CFR part 141—Pilot Schools

• Section 610: The agency conducted a Section 610 review of this part and found no SEISNOSE.

• General: No changes are needed.

14 CFR part 142—Training Centers

• Section 610: The agency conducted a Section 610 review of this part and found no SEISNOSE.

• General: No changes are needed.

14 CFR part 145—Repair Stations

• Section 610: The agency conducted a Section 610 review of this part and found no SEISNOSE.

• General: No changes are needed.

14 CFR part 147—Aviation Maintenance Technician Schools

• Section 610: The agency conducted a Section 610 review of this part and found no SEISNOSE.

• General: No changes are needed.

14 CFR part 170—Establishment and Discontinuance Criteria for Air Traffic Control Services and Navigational Facilities

• Section 610: The agency conducted a Section 610 review of this part and found no SEISNOSE.

• General: No changes are needed.

14 CFR part 171—Non-Federal Navigational Facilities

• Section 610: The agency conducted a Section 610 review of this part and found no amendments to 14 CFR 185 since July 2010. Thus, no SEISNOSE exists in this part.

• General: No changes are needed.

14 CFR part 183—Representatives of the Administrator

• Section 610: The agency conducted a Section 610 review of this part and found no SEISNOSE.

• General: No changes are needed.

14 CFR part 185—Testimony by Employees and Production of Records in Legal Proceedings, and Service of Legal Process and Pleadings

• Section 610: The agency conducted a section 610 review of this part and found no amendments to 14 CFR 185 since July 2010. Thus, no SEISNOSE exists in this part.

• General: No changes are needed.

14 CFR part 187—Fees

• Section 610: The agency conducted a section 610 review of this part and found no SEISNOSE.

• General: No changes are needed.

Federal Highway Administration

Section 610 and Other Reviews

Year | Regulations to be reviewed | Analysis year | Review year
1 | None | 2018 | 2019
2 | 23 CFR parts 1 to 260 | 2019 | 2020
3 | 23 CFR parts 420 to 470 | 2020 | 2021
4 | 23 CFR part 500 | 2021 | 2022
5 | 23 CFR parts 620 to 637 | 2022 | 2023
6 | 23 CFR parts 645 to 669 | 2023 | 2024
7 | 23 CFR parts 710 to 924 | 2024 | 2025
8 | 23 CFR parts 940 to 973 | 2025 | 2026
9 | 23 CFR parts 1200 to 1252 | 2026 | 2027
10 | New parts and subparts | 2027 | 2028

Federal-Aid Highway Program

The Federal Highway Administration (FHWA) has adopted regulations in title 23 of the CFR, chapter I, related to the Federal-Aid Highway Program. These regulations implement and carry out the provisions of Federal law relating to the administration of Federal aid for highways. The primary law authorizing Federal aid for highways is chapter I of title 23 of the U.S.C. 145, which expressly provides for a federally assisted State program. For this reason, the regulations adopted by the FHWA in title 23 of the CFR primarily relate to the requirements that States must meet to receive Federal funds for construction and other work related to highways. Because the regulations in title 23 primarily relate to States, which are not defined as small entities under the Regulatory Flexibility Act, the FHWA believes that its regulations in title 23 do not have a significant economic impact on a substantial number of small entities. The FHWA solicits public comment on this preliminary conclusion.

Year 3 (Fall 2020) List of Rules Analyzed and a Summary of the Results

23 CFR part 420—Planning and research program administration

• Section 610: No SEISNOSE. No small entities are affected.

• General: No changes are needed for purposes of the Regulatory Flexibility Act. FHWA's plain language review of the regulations indicates no need for substantial revision.

23 CFR part 450—Planning assistance and standards

• Section 610: No SEISNOSE. No small entities are affected.

• General: No changes are needed for purposes of the Regulatory Flexibility Act. FHWA is proposing to revise aspects of the Part 450 regulations under RIN 2125-AF98 and RIN 2125-AG09. FHWA's plain language review of the regulations indicates no need for substantial revision.

23 CFR part 460—Public road mileage for apportionment of highway safety funds

• Section 610: No SEISNOSE. No small entities are affected.

• General: No changes are needed for purposes of the Regulatory Flexibility Act. FHWA's plain language review of the regulations indicates no need for substantial revision.

23 CFR part 470—Highway systems

• Section 610: No SEISNOSE. No small entities are affected.

• General: No changes are needed for purposes of the Regulatory Flexibility Act. FHWA's plain language review of the regulations indicates no need for substantial revision.

Year 4 (Fall 2021) List of Rules That Will Be Analyzed During the Next Year

23 CFR part 500—Management and Monitoring Systems

Federal Motor Carrier Safety Administration

Section 610 and Other Reviews

Year | Regulations to be reviewed | Analysis year | Review year
1 | 49 CFR part 386 | 2018 | 2019
2 | 49 CFR part 385 | 2019 | 2020
3 | 49 CFR parts 382 and 383 | 2020 | 2021
4 | 49 CFR part 380 | 2021 | 2022
5 | 49 CFR part 387 | 2022 | 2023
6 | 49 CFR part 398 | 2023 | 2024
7 | 49 CFR part 392 | 2024 | 2025
8 | 49 CFR part 375 | 2025 | 2026
9 | 49 CFR part 367 | 2026 | 2027
10 | 49 CFR part 395 | 2027 | 2028

Year 2 (2019) List of Rules With Ongoing Analysis

49 CFR part 386—Rules of Practice for Motor Carrier, Intermodal Equipment Provider, Broker, Freight Forwarder, and Hazardous Materials Proceedings

• Section 610: FMCSA analyzed 49 CFR part 386 and found no SEISNOSE. 49 CFR part 386 is a permissive set of rules that establish procedures for respondents, petitioners, and others seeking relief from a determination of non-compliance with Federal Motor Carrier Safety Regulations or Hazardous Materials Regulations. The rule also provides recourse for commercial drivers to report employer harassment or coercion to violate rules.

• General: There is no need for substantial revision. These regulations provide necessary/clear guidance to industry and drivers. The regulations are written consistent with plain language guidelines, are cost effective, and impose the least economic burden to industry.

49 CFR part 385—Safety Fitness Procedures

• Section 610: FMCSA analyzed 49 CFR part 385 and found no SEISNOSE. 49 CFR part 385 provides guidance on safety fitness procedures including monitoring, new entrants, intermodal equipment, and hazardous materials safety permits. The rule addresses safety initiatives whose cost are required by 49 CFR parts 360, 367, 387, and 390. These rules do not result in a SEISNOSE, because they do not introduce new costs to small carriers.

• General: There is no need for substantial revision as these regulations provide necessary guidance to the industry. The regulations are written consistent with plain language guidelines and impose the least economic burden to industry.

Year 3 (2020) List of Rules With Ongoing Analysis

49 CFR part 382—Controlled Substances and Alcohol Use and Testing

• Section 610: FMCSA analyzed 49 CFR part 382 but found no SEIOSNOSE. 49 CFR part 382 requires carriers to establish a drug and alcohol program. Primary costs are fees to participate in a drug and alcohol consortium that facilitates drug and alcohol testing. Ancillary costs include a loss of productivity due to employees taking time away from their primary responsibilities to take periodic drug and alcohol tests and receive education on controlled substances. The rule also drives modest record keeping and drug and alcohol clearing house access costs.

• General: There is no need for substantial revision. These regulations provide necessary/clear guidance to industry employers and drivers. The regulations are written consistent with plain language guidelines, are cost effective, and impose the least economic burden to the industry.

49 CFR part 383—Commercial Driver's License Standards; Requirements and Penalties

• Section 610: FMCSA analyzed 49 CFR part 383 and found no SEISNOSE. 49 CFR part 383 establishes minimum standards for employers to comply with regulations that ensure drivers are qualified to operate a commercial motor vehicle (CMV) and retain only one CMV license. The rule also communicates the circumstances that disqualify a CMV driver. The rule presents minimal costs to small carriers. Most of these costs are beyond the Agency's discretion as they are predominately mandated by statute and represent sound business practices in support of driver safety.

• General: There is no need for substantial revision as these regulations provide necessary guidance to the industry. The regulations are written consistent with plain language guidelines and impose the least economic burden to carriers.

Year 3 (2021) List of Rules That Will Be Analyzed During the Next Year

49 CFR part 380—Special Training Requirements

National Highway Traffic Safety Administration

Section 610 and Other Reviews

Year | Regulations to be reviewed | Analysis year | Review year
1 | 49 CFR 571.223 through 571.500, and parts 575 and 579 | 2018 | 2019
2 | 23 CFR part 1300 | 2019 | 2020
3 | 49 CFR parts 501 through 526 and 571.213 | 2020 | 2021
4 | 49 CFR 571.131, 571.217, 571.220, 571.221, and 571.222 | 2021 | 2022
5 | 49 CFR 571.101 through 571.110, and 571.135, 571.136, 571.138 and 571.139 | 2022 | 2023
6 | 49 CFR 571.141, and 49 CFR parts 529 through 578, except parts 571 and 575 | 2023 | 2024
7 | 49 CFR 571.111 through 571.129 and parts 580 through 588 | 2024 | 2025
8 | 49 CFR 571.201 through 571.212 | 2025 | 2026
9 | 49 CFR 571.214 through 571.219, except 571.217 | 2026 | 2027
10 | 49 CFR parts 591 through 595 and new parts and subparts | 2027 | 2028

Years 1 Through 3 (Fall 2019-2021) List of Rules With Ongoing Analysis

49 CFR part 571.213—Child Restraint Systems

49 CFR part 571.223—Rear Impact Guards

49 CFR part 571.224—Rear Impact Protection

49 CFR part 571.225—Child Restraint Anchorage Systems

49 CFR part 571.226—Ejection Mitigation

49 CFR part 571.301—Fuel System Integrity

49 CFR part 571.302—Flammability of Interior Materials

49 CFR part 571.303—Fuel System Integrity of Compressed Natural Gas Vehicles

49 CFR part 571.304—Compressed Natural Gas Fuel Container Integrity

49 CFR part 571.305—Electric-Powered Vehicles: Electrolyte Spillage and Electrical Shock Protection

49 CFR part 571.401—Interior Trunk Release

49 CFR part 571.403—Platform Lift Systems for Motor Vehicles

49 CFR part 571.404—Platform Lift Installations in Motor Vehicles

49 CFR part 571.500—Low-Speed Vehicles

49 CFR part 501—Organization and Delegation of Powers and Duties

49 CFR part 509—OMB Control Numbers for Information Collection Requirements

49 CFR part 510—Information Gathering Powers

49 CFR part 511—Adjudicative Procedures

49 CFR part 512—Confidential Business Information

49 CFR part 520—Procedures for Considering Environmental Impacts

49 CFR part 523—Vehicle Classification

49 CFR part 525—Exemptions from Average Fuel Economy Standards

49 CFR part 526—Petitions and Plans for Relief under the Automobile Fuel Efficiency Act of 1980

49 CFR part 575—Consumer Information

49 CFR part 579—Reporting of Information and Communications About Potential Defects

23 CFR part 1200—Uniform Procedures for State Highway Safety Grant Programs

23 CFR part 1300—Uniform Procedures for State Highway Safety Grant Programs

Year 4 (Fall 2022) List of Rules That Will Be Analyzed During Next Year

49 CFR part 571.131—School Bus Pedestrian Safety Devices

49 CFR part 571.217—Bus Emergency Exits and Window Retention and Release

49 CFR part 571.220—School Bus Rollover Protection

49 CFR part 571.221—School Bus Body Joint Strength

49 CFR part 571.222—School Bus Passenger Seating and Crash Protection

Federal Railroad Administration

Section 610 and Other Reviews

Year | Regulations to be reviewed | Analysis year | Review year
1 | 49 CFR parts 200, 207, 209, and 210 | 2018 | 2019
2 | 49 CFR parts 211, 212, 213, 214, and 215 | 2019 | 2020
3 | 49 CFR parts 216, 217, 218, 219, and 220 | 2020 | 2021
4 | 49 CFR parts 221, 222, 223, 224, and 225 | 2021 | 2022
5 | 49 CFR parts 227, 228, 229, 230, and 231 | 2022 | 2023
6 | 49 CFR parts 232, 233, 234, 235, and 236 | 2023 | 2024
7 | 49 CFR parts 237, 238, 249, 240, and 241 | 2024 | 2025
8 | 49 CFR parts 242, 243, 244, 250, and 256 | 2025 | 2026
9 | 49 CFR parts 261, 262, 264, 266, and 268 | 2026 | 2027
10 | 49 CFR parts 269, 270, and 272 | 2027 | 2028

Year 3 (Fall 2020) List of Rules Analyzed and a Summary of Results

49 CFR part 216—Special Notice and Emergency Order Procedures: Railroad Track, Locomotive and Equipment

• Section 610: There is no SEISNOSE.

• General: Part 216 provides safety and security for railroad employees and the public through special notices for repairs of railroad freight car, locomotive, passenger equipment, and track class, as well as for the issuance and review of emergency orders for removing dangerously substandard track from service. FRA's plain language review of this rule indicates no need for substantial revision.

49 CFR part 217—Railroad Operating Rules

• Section 610: There is no SEISNOSE.

General: No changes are needed. These regulations are cost effective and impose the least burden. FRA's plain language review of this rule indicates no need for substantial revision.

49 CFR part 218—Railroad Operating Practices

Section 610: There is no SEIOSNOSE.

General: The rule prescribes minimum requirements for railroad operating rules and practices. No changes are needed. FRA's plain language review of this rule indicates no need for substantial revision.

49 CFR part 219—Control of Alcohol and Drug Use

Section 610: There is no SEISNOSE.

General: No changes are needed. This rule is cost effective and imposes the least burden. FRA's plain language review of this rule indicates no need for substantial revision.

49 CFR part 220—Railroad Communications

Section 610: This rule has significant economic impacts on a substantial number of small entities. However, the actual burden on most of these railroads varies because of their different operating characteristics. Entities that are not subject to this rule include railroads that do not operate on the general railroad system of transportation. The communication requirements of this rule have been designed to minimize the impact on small railroads. For instance, while large railroads are required to have a working radio and wireless communication redundancy in every train, small railroads are only required to comply with this standard for trains used to transport passengers. As part of the rulemaking process, FRA conducted a review of the impact that this rulemaking could have on small businesses and whether any opportunities may exist to reduce the burdens on small railroads without compromising safety. FRA's plain language review of this rule indicates no need for substantial revision.

General: The rule prescribes minimum requirements governing the use of wireless communications in connection with railroad operations. Uniform standard communications procedures and requirements throughout the railroad industry are necessary to ensure the protection and safety of railroad employees and the public, and to minimize potential casualties.

Year 4 (Fall 2021) List of Rules(s) That Will Be Analyzed During This Year

49 CFR part 221—Rear End Marking Device—Passenger, Commuter and Freight Trains

49 CFR part 222—Use of Locomotive Horns at Public Highway-Rail Grade Crossings

49 CFR part 223—Safety Glazing Standards—Locomotives, Passenger Cars and Cabooses

49 CFR part 224—Reflectorization of Rail Freight Rolling Stock

49 CFR part 225—Rail Accidents/Incidents: Reports Classification, and Investigations

Federal Transit Administration

Section 610 and Other Reviews

The Regulatory Flexibility Act of 1980 (RFA), as amended (sections 601 through 612 of title 5, United States Code), requires Federal regulatory agencies to analyze all proposed and final rules to determine their economic impact on small entities, which include small businesses, organizations, and governmental jurisdictions. Section 610 requires government agencies to periodically review all regulations that will have a significant economic impact on a substantial number of small entities (SEISNOSE).

In complying with this section, the Federal Transit Administration (FTA) has elected to use the two-step, two-year process used by most Department of Transportation (DOT) modes. As such, FTA has divided its rules into 10 groups as displayed in the table below. During the analysis year, the listed rules will be analyzed to identify those with a SEISNOSE. During the review year, each rule identified in the analysis year as having a SEISNOSE will be reviewed in accordance with section 610(b) to determine if it should be continued without change or changed to minimize the impact on small entities.

Year | Regulations to be reviewed | Analysis year | Review year
1 | 49 CFR parts 604, 605, and 624 | 2018 | 2019
2 | 49 CFR parts 609 and 640 | 2019 | 2020
3 | 49 CFR part 633 | 2020 | 2021
4 | 49 CFR part 611 | 2021 | 2022
5 | 49 CFR part 655 | 2022 | 2023
6 | 49 CFR parts 602 and 614 | 2023 | 2024
7 | 49 CFR parts 661 and 663 | 2024 | 2025
8 | 49 CFR parts 625, 630, and 665 | 2025 | 2026
9 | 49 CFR parts 613, 622, 670 and 674 | 2026 | 2027
10 | 49 CFR parts 650, 672 and 673 | 2027 | 2028

Year 3 (2020) List of Rules Analyzed and Summary of Results

49 CFR part 633—Project Management Oversight

• Section 610: FTA conducted a Section 610 review of 49 CFR part 633 and determined that it would not result in a SEISNOSE within the meaning of the RFA. The regulation implements statutorily required procedures for project management oversight of major capital public transportation projects.

• General: No changes are needed. FTA amended the Project Management Oversight regulation in 2020 (85 FR 59672) to make it consistent with statutory changes and to modify the scope and applicability of project management oversight. FTA estimated the costs and projected benefits of the rule and determined that it would result in an overall burden reduction by reducing recipients' labor hours for oversight procedures.

Year 4 (2021) List of Rules To Be Analyzed This Year

49 CFR part 611—Major Capital Investment Projects

Maritime Administration

Section 610 and Other Reviews

Year | Regulations to be reviewed | Analysis year | Review year
1 | 46 CFR parts 201 through 205, 46 CFR parts 315 through 340, 46 CFR part 345 through 347, and 46 CFR parts 381 and 382 | 2018 | 2019
2 | 46 CFR parts 221 through 232 | 2019 | 2020
3 | 46 CFR parts 249 through 296 | 2020 | 2021
4 | 46 CFR parts 221, 298, 308, and 309 | 2021 | 2022
5 | 46 CFR parts 307 through 309 | 2022 | 2023
6 | 46 CFR part 310 | 2023 | 2024
7 | 46 CFR parts 315 through 340 | 2024 | 2025
8 | 46 CFR parts 345 through 381 | 2025 | 2026
9 | 46 CFR parts 382 through 389 | 2026 | 2027
10 | 46 CFR parts 390 through 393 | 2027 | 2028

Year 1 (2018) List of Rules With Ongoing Analysis

46 CFR part 201—Rules of Practice and Procedure

46 CFR part 202—Procedures relating to review by Secretary of Transportation of actions by Maritime Subsidy Board

46 CFR part 203—Procedures relating to conduct of certain hearings under the Merchant Marine Act, 1936, as amended

46 CFR part 205—Audit Appeals; Policy and Procedure

46 CFR part 315—Agency Agreements and Appointment of Agents

46 CFR part 317—Bonding of Ship's Personnel

46 CFR part 324—Procedural Rules for Financial Transactions Under Agency Agreements

46 CFR part 325—Procedure to Be Followed by General Agents in Preparation of Invoices and Payment of Compensation Pursuant to Provisions of NSA Order No. 47

46 CFR part 326—Marine Protection and Indemnity Insurance Under Agreements with Agents

46 CFR part 327—Seamen's Claims; Administrative Action and Litigation

46 CFR part 328—Slop Chests

46 CFR part 329—Voyage Data

46 CFR part 330—Launch Services

46 CFR part 332—Repatriation of Seamen

46 CFR part 335—Authority and Responsibility of General Agents to Undertake Emergency Repairs in Foreign Ports

46 CFR part 336—Authority and Responsibility of General Agents to Undertake in Continental United States Ports Voyage Repairs and Service Equipment of Vessels Operated for the Account of The National Shipping Authority Under General Agency Agreement

46 CFR part 337—General Agent's Responsibility in Connection with Foreign Repair Custom's Entries

46 CFR part 338—Procedure for Accomplishment of Vessel Repairs Under National Shipping Authority Master Lump Sum Repair Contract—NSA-Lumpsumrep

46 CFR part 339—Procedure for Accomplishment of Ship Repairs Under National Shipping Authority Individual Contract for Minor Repairs—NSA-Workmanship

46 CFR part 340—Priority Use and Allocation of Shipping Services, Containers and Chassis, and Port Facilities and Services for National Security and National Defense Related Operations

46 CFR part 345—Restrictions Upon the Transfer or Change in Use or In Terms Governing Utilization of Port Facilities

46 CFR part 346—Federal Port Controllers

46 CFR part 347—Operating Contract

46 CFR part 381—Cargo Preference—U.S.-Flag Vessels

46 CFR part 382—Determination of Fair and Reasonable Rates for the Carriage of Bulk and Packaged Preference Cargoes on U.S.-Flag Commercial Vessels

Year 1 (2018) List of Rules Analyzed and a Summary of Results

46 CFR part 204—Claims against the Maritime Administration under the Federal Tort Claims Act

• Section 610: There is no SEIOSNOSE.

• General: The purpose of this rule is to prescribe the requirements and procedures for administrative claims against the United States involving the Maritime Administration under the Federal Tort Claims Act. The agency has determined that the rule is cost-effective and imposes the least possible burden on small entities. MARAD's plain language review of this rule indicates no need of substantial revision.

Year 2 (2019) List of Rules Analyzed and a Summary of Results

46 CFR part 221 Regulated Transactions Involving Documented Vessels and Other Maritime Interests

• Section 610: There is no SEIOSNOSE.

• General: The purpose of this rule is to govern practice and procedure in regulating interest in or control of Documented Vessels owned by Citizens of the United States to Noncitizens and transactions involving certain maritime interests in time of war or national emergency. The agency has determined that the rule is cost-effective and imposes the least possible burden on small entities. MARAD's plain language review of this rule indicates no need of substantial revision.

46 CFR 232 Uniform Financial Reporting Requirements

• Section 610: There is no SEIOSNOSE.

• General: The purpose of this rule is to govern practice and procedure to all participants in financial assistance programs administered by the Maritime Administration. The agency has determined that the rule is cost-effective and imposes the least possible burden on small entities. MARAD's plain language review of this rule indicates no need of substantial revision.

Year 3 (2020) List of Rules That Will Be Analyzed During the Year

46 CFR part 249—Approval of Underwriters for Marine Hull Insurance

46 CFR part 272—Requirements and Procedures for Conducting Condition Surveys and Administering Maintenance and Repair Subsidy

46 CFR part 277—Domestic and Foreign Trade; Interpretations

46 CFR part 287—Establishment of Construction Reserve Funds

46 CFR part 289—Insurance of Construction-Differential Subsidy Vessels, Operating-Differential Subsidy Vessels and of Vessels Sold or Adjusted Under the Merchant Ship Sales Act of 1946

46 CFR part 295—Maritime Security Program

46 CFR part 296—Maritime Security Program

Pipeline and Hazardous Materials Safety Administration (PHMSA)

Section 610 and Other Reviews

Year | Regulations to be reviewed | Analysis year | Review year
1 | 49 CFR part 178 | 2018 | 2019
2 | 49 CFR parts 178 through 180 | 2019 | 2020
3 | 49 CFR parts 172 and 175 | 2020 | 2021
4 | 49 CFR part 171, sections 171.15 and 171.16 | 2021 | 2022
5 | 49 CFR parts 106, 107, 171, 190, and 195 | 2022 | 2023
6 | 49 CFR parts 174, 177, and 199 | 2023 | 2024
7 | 49 CFR parts 176, 191 and 192 | 2024 | 2025
8 | 49 CFR parts 172 and 178 | 2025 | 2026
9 | 49 CFR parts 172, 173, 174, 176, 177, and 193 | 2026 | 2027
10 | 49 CFR parts 173 and 194 | 2027 | 2028

Year 3 (Fall 2021) List of Rules Analyzed and a Summary of Results

49 CFR part 172—Hazardous Materials Table, Special Provisions, Hazardous Materials Communications, Emergency Response Information, Training Requirements, and Security Plans

49 CFR part 175—Carriage by Aircraft

• Section 610: PHMSA conducted a review of these parts and found no SEISNOSE.

• General: PHMSA has reviewed these parts and found that while these parts do not have SEISNOSE, they could be revised to reflect new technologies and updated to reflect current practices. Therefore, PHMSA has initiated rulemakings to revise portions of parts 172 and 175. Otherwise, PHMSA's plain language review of these parts indicates no need for substantial revision. Where confusing or ambiguous language has been identified, PHMSA plans to propose or finalize revisions by way of rulemakings.

As an example, the “Hazardous Materials: Advancing Safety of Modal Specific Provisions” (2137-AF41) rulemaking action is part of PHMSA's response to clarify current regulatory requirements and address public comments. This rulemaking also proposes to address a variety of petitions for rulemaking, specific to modal stakeholders, and other issues identified by PHMSA during its regulatory review. The impact that the 2137-AF41 rulemaking will have on small entities is not expected to be significant. The rulemaking is based on PHMSA's initiatives and correspondence with the regulated community, as well as PHMSA's consultation with its modal partners, including FMCSA, FRA, and the United States Coast Guard (USCG). The proposed amendments are expected to result in an overall net cost savings and ease the regulatory compliance burden for small entities, shippers, carriers, manufacturers, and requalifiers, specifically those modal-specific packaging and requalification requirements. This rulemaking is one example of PHMSA's review of rulemakings which ensures that our rules do not have a significant economic impact on a substantial number of small entities.

For a second example, the “Hazardous Materials: Harmonization With International Standards” (2137-AF46) rulemaking action is part of PHMSA's ongoing biennial process to harmonize the Hazardous Materials Regulations (HMR) with international regulations and standards. Federal law and policy strongly favor the harmonization of domestic and international standards for hazardous materials transportation. The Federal hazardous materials transportation law (Federal hazmat law; 49 U.S.C. 5101 et seq.) directs PHMSA to participate in relevant international standard-setting bodies and promotes consistency of the HMR with international transport standards to the extent practicable. Federal hazardous materials law permits PHMSA to depart from international standards where appropriate, including to promote safety or other overriding public interests. However, Federal hazardous materials law otherwise encourages domestic and international harmonization (see 49 U.S.C. 5120). Harmonization facilitates international trade by minimizing the costs and other burdens of complying with multiple or inconsistent safety requirements for transportation of hazardous materials. Safety is enhanced by creating a uniform framework for compliance, and as the volume of hazardous materials transported in international commerce continues to grow, harmonization becomes increasingly important. The impact that the 2137-AF46 rulemaking will have on small entities is not expected to be significant. The rulemaking will clarify provisions based on PHMSA's initiatives and correspondence with the regulated community and domestic and international stakeholders, which helps promote safety through increased regulatory compliance. The changes are generally intended to provide relief and, as a result, positive economic benefits to shippers, carriers, and packaging manufacturers and testers, including small entities. This rulemaking is expected to lead to both economic and safety benefits. The amendments are expected to result in net benefits for shippers engaged in domestic and international commerce, including trans-border shipments within North America. Additionally, the effective changes of this rulemaking will relieve U.S. companies, including small entities competing in foreign markets, from the burden of complying with a dual system of regulations. This rulemaking is a second example of PHMSA's review of rulemakings which helps ensure that the HMR do not have a significant economic impact on a substantial number of small entities.

Year 4 (Fall 2022) List of Rules That Will Be Analyzed During the Next Year

49 CFR part 171—Sections 171.15 and 171.16—Incident Reporting

Great Lakes Saint Lawrence Seaway Development Corporation

Section 610 and Other Reviews

Year | Regulations to be reviewed | Analysis year | Review year
1 | * 33 CFR parts 401 through 403 | 2018 | 2019
* The review for these regulations is recurring each year of the 10-year review cycle (currently 2018 through 2027).

Year 1 (Fall 2018) List of Rules That Will Be Analyzed During the Next Year

33 CFR part 401—Seaway Regulations and Rules

33 CFR part 402—Tariff of Tolls

33 CFR part 403—Rules of Procedure of the Joint Tolls Review Board

Office of the Secretary—Proposed Rule Stage
Sequence No. | Title | Regulation Identifier No.
337 | + Enhancing Transparency of Airline Ancillary Service Fees (Reg Plan Seq No. 131) | 2105-AF10
+ DOT-designated significant regulation.
References in boldface appear in The Regulatory Plan in part II of this issue of the Federal Register.

Office of the Secretary—Long-Term Actions
Sequence No. | Title | Regulation Identifier No.
338 | + Air Transportation Consumer Protection Requirements for Ticket Agents (Section 610 Review) | 2105-AE57
+ DOT-designated significant regulation.

Federal Aviation Administration—Proposed Rule Stage
Sequence No. | Title | Regulation Identifier No.
339 | + Drug and Alcohol Testing of Certain Maintenance Provider Employees Located Outside of the United States | 2120-AK09
+ DOT-designated significant regulation.

Federal Aviation Administration—Final Rule Stage
Sequence No. | Title | Regulation Identifier No.
340 | + Airport Safety Management System | 2120-AJ38
341 | + Registration and Marking Requirements for Small Unmanned Aircraft (Reg Plan Seq No. 132) | 2120-AK82
+ DOT-designated significant regulation.
References in boldface appear in The Regulatory Plan in part II of this issue of the Federal Register.

Federal Aviation Administration—Long-Term Actions
Sequence No. | Title | Regulation Identifier No.
342 | + Regulation Of Flight Operations Conducted By Alaska Guide Pilots | 2120-AJ78
343 | + Applying the Flight, Duty, and Rest Requirements to Ferry Flights that Follow Commuter or On-Demand Operations (FAA Reauthorization) | 2120-AK26
344 | + Aircraft Registration and Airmen Certification Fees | 2120-AK37
345 | + Helicopter Air Ambulance Pilot Training and Operational Requirements (HAA II) (FAA Reauthorization) | 2120-AK57
346 | Requirements to File Notice of Construction of Meteorological Evaluation Towers and Other Renewable Energy Projects (Section 610 Review) | 2120-AK77
+ DOT-designated significant regulation.

Federal Aviation Administration—Completed Actions
Sequence No. | Title | Regulation Identifier No.
347 | + Pilot Records Database (HR 5900) | 2120-AK31
+ DOT-designated significant regulation.

Federal Highway Administration—Proposed Rule Stage
Sequence No. | Title | Regulation Identifier No.
348 | Incorporating Safety Into Federal-aid Programs and Projects (Section 610 Review) | 2125-AG08

Federal Motor Carrier Safety Administration—Long-Term Actions
Sequence No. | Title | Regulation Identifier No.
349 | + Safety Monitoring System and Compliance Initiative for Mexico-Domiciled Motor Carriers Operating in the United States | 2126-AA35
+ DOT-designated significant regulation.

Federal Motor Carrier Safety Administration—Completed Actions
Sequence No. | Title | Regulation Identifier No.
350 | Controlled Substances and Alcohol Testing: State Driver's Licensing Agency Downgrade of Commercial Driver's License (Completion of a Section 610 Review) | 2126-AC11

Federal Railroad Administration—Proposed Rule Stage
Sequence No. | Title | Regulation Identifier No.
351 | + Train Crew Staffing (Reg Plan Seq No. 139) | 2130-AC88
+ DOT-designated significant regulation.
References in boldface appear in The Regulatory Plan in part II of this issue of the Federal Register.

Saint Lawrence Seaway Development Corporation—Proposed Rule Stage
Sequence No. | Title | Regulation Identifier No.
352 | Seaway Regulations and Rules: Periodic Update, Various Categories (Rulemaking Resulting From a Section 610 Review) | 2135-AA51
353 | Tariff of Tolls (Rulemaking Resulting From a Section 610 Review) | 2135-AA52

Pipeline and Hazardous Materials Safety Administration—Proposed Rule Stage
Sequence No. | Title | Regulation Identifier No.
354 | + Pipeline Safety: Gas Pipeline Leak Detection and Repair | 2137-AF51
355 | + Pipeline Safety: Safety of Gas Distribution Pipelines | 2137-AF53
+ DOT-designated significant regulation.

Pipeline and Hazardous Materials Safety Administration—Final Rule Stage
Sequence No. | Title | Regulation Identifier No.
356 | + Pipeline Safety: Amendments to Parts 192 and 195 to require Valve installation and Minimum Rupture Detection Standards | 2137-AF06
357 | + Hazardous Materials: Enhanced Safety Provisions for Lithium Batteries Transported by Aircraft (FAA Reauthorization Act of 2018) | 2137-AF20
+ DOT-designated significant regulation.

Pipeline and Hazardous Materials Safety Administration—Long-Term Actions
Sequence No. | Title | Regulation Identifier No.
358 | + Pipeline Safety: Pipeline Operational Status | 2137-AF52
+ DOT-designated significant regulation.

DEPARTMENT OF TRANSPORTATION (DOT)

Office of the Secretary (OST)

Proposed Rule Stage

337. • +Enhancing Transparency of Airline Ancillary Service Fees

Regulatory Plan: This entry is Seq. No. 131 in part II of this issue of the Federal Register.

RIN: 2105-AF10

DEPARTMENT OF TRANSPORTATION (DOT)

Office of the Secretary (OST)

Long-Term Actions

338. +Air Transportation Consumer Protection Requirements for Ticket Agents (Section 610 Review)

Legal Authority: 49 U.S.C. 41712; FAA Reauthorization Act of 2018, sec. 427

Abstract: This rulemaking would address a number of proposals to enhance protections for air travelers and to improve the air travel environment. Specifically, this rulemaking would enhance airline passenger protections by addressing whether to codify in regulation a definition of the term “ticket agent.” The rulemaking would also consider whether to require large travel agents to adopt minimum customer service standards and prohibit the unfair and deceptive practice of post-purchase price increases. These issues, previously part of a rulemaking known as Airline Pricing Transparency and Other Consumer Protection Issues, (2105-AE11) have been separated into this proceeding.

Timetable: Next Action Undetermined.

Regulatory Flexibility Analysis Required: No.

Agency Contact: Blane A. Workie, Assistant General Counsel, Department of Transportation, Office of the Secretary, 1200 New Jersey Avenue SE, Washington, DC 20590, Phone: 202 366-9342, Fax: 202 366-7153, Email: blane.workie@ost.dot.gov.

RIN: 2105-AE57

DEPARTMENT OF TRANSPORTATION (DOT)

Federal Aviation Administration (FAA)

Proposed Rule Stage

339. +Drug and Alcohol Testing of Certain Maintenance Provider Employees Located Outside of the United States

Legal Authority: 14 CFR; 49 U.S.C. 106(g); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This action is necessary to increase the level of safety of the flying public. This rulemaking is a statutory mandate under section 308(d) of the FAA Modernization and Reform Act of 2012 (Pub. L. 112-95).

Timetable:

Action | Date | FR Cite
ANPRM | 03/17/14 | 79 FR 14621
Comment Period Extended | 05/01/14 | 79 FR 24631
ANPRM Comment Period End | 05/16/14
Comment Period End | 07/17/14
NPRM | 07/00/22

Regulatory Flexibility Analysis Required: Yes.

Agency Contact: Julia Brady, Program Analyst, Program Policy Branch, Department of Transportation, Federal Aviation Administration, 800 Independence Avenue SW, Washington, DC 20591, Phone: 202 267-8083, Email: julia.brady@faa.gov.

RIN: 2120-AK09

DEPARTMENT OF TRANSPORTATION (DOT)

Federal Aviation Administration (FAA)

Final Rule Stage

340. +Airport Safety Management System

Legal Authority: 49 U.S.C. 44706; 49 U.S.C. 106(g); 49 U.S.C. 40113; 49 U.S.C. 44701 to 44706; 49 U.S.C. 44709; 49 U.S.C. 44719

Abstract: This rulemaking would require certain airport certificate holders to develop, implement, maintain, and adhere to a safety management system (SMS) for its aviation related activities. An SMS is a formalized approach to managing safety by developing an organization-wide safety policy, developing formal methods of identifying hazards, analyzing and mitigating risk, developing methods for ensuring continuous safety improvement, and creating organization-wide safety promotion strategies.

Timetable:

Action | Date | FR Cite
NPRM | 10/07/10 | 75 FR 62008
NPRM Comment Period Extended | 12/10/10 | 75 FR 76928
NPRM Comment Period End | 01/05/11
End of Extended Comment Period | 03/07/11
Second Extension of Comment Period | 03/07/11 | 76 FR 12300
End of Second Extended Comment Period | 07/05/11
Second NPRM | 07/14/16 | 81 FR 45871
Second NPRM Comment Period End | 09/12/16
Analyzing Comments | 12/00/21
Final Rule | 01/00/22

Regulatory Flexibility Analysis Required: Yes.

Agency Contact: James Schroeder, Office of Airport Safety and Standards, Department of Transportation, Federal Aviation Administration, 800 Independence Avenue SW, Washington, DC 20591, Phone: 202 267-4974, Email: james.schroeder@faa.gov.

RIN: 2120-AJ38

341. +Registration and Marking Requirements for Small Unmanned Aircraft

Regulatory Plan: This entry is Seq. No. 132 in part II of this issue of the Federal Register.

RIN: 2120-AK82

DEPARTMENT OF TRANSPORTATION (DOT)

Federal Aviation Administration (FAA)

Long-Term Actions

342. +Regulation of Flight Operations Conducted by Alaska Guide Pilots

Legal Authority: 49 U.S.C. 106(g) ; 49 U.S.C. 1153; 49 U.S.C. 1155; 49 U.S.C. 40101 to 40103; 49 U.S.C. 40113; 49 U.S.C. 40120; 49 U.S.C. 44101; 49 U.S.C. 44105 to 44016; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 to 46316; 49 U.S.C. 46504; 49 U.S.C. 46506 to 46507; 49 U.S.C. 47122; 49 U.S.C. 47508; 49 U.S.C. 47528 to 47531; Articles 12 and 29 of 61 Statue 1180; Pub. L. 106-181, sec. 732

Abstract: The rulemaking would establish regulations concerning Alaska guide pilot operations. The rulemaking would implement Congressional legislation and establish additional safety requirements for the conduct of these operations. The intended effect of this rulemaking is to enhance the level of safety for persons and property transported in Alaska guide pilot operations. In addition, the rulemaking would add a general provision applicable to pilots operating under the general operating and flight rules concerning falsification, reproduction, and alteration of applications, logbooks, reports, or records. This rulemaking is a statutory mandate under section 732 of the Wendell H. Ford Aviation Investment and Reform Act for the 21st Century (Pub. L. 106-181).

Timetable: Next Action Undetermined.

Regulatory Flexibility Analysis Required: Yes.

Agency Contact: Jeff Smith, Department of Transportation, Federal Aviation Administration, 800 Independence Avenue SW, Washington, DC 20785, Phone: 202 365-3617, Email:jeffrey.smith@faa.gov.

RIN: 2120-AJ78

343. +Applying the Flight, Duty, and Rest Requirements to Ferry Flights That Follow Commuter or On-Demand Operations (FAA Reauthorization)

Legal Authority: 49 U.S.C. 106(f); 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable:

Action | Date | FR Cite
ANPRM | 11/00/22 |

Regulatory Flexibility Analysis Required: Yes.

Agency Contact: Chester Piolunek, Department of Transportation, Federal Aviation Administration, 800 Independence Avenue SW, Washington, DC 20591, Phone: 202 267-3711, Email: chester.piolunek@faa.gov.

RIN: 2120-AK26

344. +Aircraft Registration and Airmen Certification Fees

Legal Authority: 31 U.S.C. 9701; 4 U.S.C. 1830; 49 U.S.C. 106(f); 49 U.S.C. 106(g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; Pub. L. 108-297, 118 Stat. 1095

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
NPRM | 12/00/22 |

Regulatory Flexibility Analysis Required: Yes.

Agency Contact: Isra Raza, Department of Transportation, Federal Aviation Administration, 800 Independence Avenue SW, Washington, DC 20591, Phone: 202 267-8994, Email: isra.raza@faa.gov.

RIN: 2120-AK37

345. +Helicopter Air Ambulance Pilot Training and Operational Requirements (HAA II) (FAA Reauthorization)

Legal Authority: 49 U.S.C. 106(f); 49 U.S.C. 106(g); 49 U.S.C. 40113; 49 U.S.C. 41706; 49 U.S.C. 44701; 49 U.S.C. 44702; 49 U.S.C. 44705; 49 U.S.C. 44709; 49 U.S.C. 44711 to 44713; 49 U.S.C. 44715 to 44717; 49 U.S.C. 44722; 49 U.S.C. 44730; 49 U.S.C. 45101 to 45105

Abstract: This rulemaking would develop training requirements for crew resource management, flight risk evaluation, and operational control of the pilot in command, as well as to develop standards for the use of flight simulation training devices and line-oriented flight training. Additionally, it would establish requirements for the use of safety equipment for flight crewmembers and flight nurses. These changes will aide in the increase in aviation safety and increase survivability in the event of an accident. Without these changes, the Helicopter Air Ambulance industry may continue to see the unacceptable high rate of aircraft accidents. This rulemaking is a statutory mandate under section 306(e) of the FAA Modernization and Reform Act of 2012 (Pub. L. 112-95).

Timetable: Next Action Undetermined.

Regulatory Flexibility Analysis Required: Yes.

Agency Contact: Chris Holliday, Department of Transportation, Federal Aviation Administration, 801 Pennsylvania Avenue NW, Washington, DC 20024, Phone: 202 267-4552, Email: chris.holliday@faa.gov.

RIN: 2120-AK57

346. Requirements To File Notice of Construction of Meteorological Evaluation Towers and Other Renewable Energy Projects (Section 610 Review)

Legal Authority: 49 U.S.C. 40103

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Pub. L. 114-190).

Timetable:

Action | Date | FR Cite
NPRM | 12/00/22 |

Regulatory Flexibility Analysis Required: No.

Agency Contact: Sheri Edgett-Baron, Air Traffic Service, Department of Transportation, Federal Aviation Administration, 800 Independence Avenue SW, Washington, DC 20591, Phone: 202 267-9354, Email: sheri.edgett-baron@faa.gov.

RIN: 2120-AK77

DEPARTMENT OF TRANSPORTATION (DOT)

Federal Aviation Administration (FAA)

Completed Actions

347. +Pilot Records Database (HR 5900)

Legal Authority: 49 U.S.C. 106(f); 49 U.S.C. 106(g); 49 U.S.C. 1155; 49 U.S.C. 40103; 49 U.S.C. 40113; 49 U.S.C. 40119; 49 U.S.C. 40120; 49 U.S.C. 41706; 49 U.S.C. 44101; 49 U.S.C. 44111; 49 U.S.C. 44701 to 44705; 49 U.S.C. 44709 to 44713; 49 U.S.C. 44715 to 44717; 49 U.S.C. 44722; 49 U.S.C. 45101 to 45105; 49 U.S.C. 46105; 49 U.S.C. 46306; 49 U.S.C. 46315; 49 U.S.C. 46316; 49 U.S.C. 46504; 49 U.S.C. 46507; 49 U.S.C. 47122; 49 U.S.C. 47508; 49 U.S.C. 47528 to 47531

Abstract: This rulemaking would implement a Pilot Records Database as required by Public Law 111-216 (Aug. 1, 2010). Section 203 amends the Pilot Records Improvement Act by requiring the FAA to create a pilot records database that contains various types of pilot records. These records would be provided by the FAA, air carriers, and other persons who employ pilots, and used by potential employers prior to making hiring decisions. The FAA must maintain these records until it receives notice that a pilot is deceased.

Timetable:

Action | Date | FR Cite
NPRM | 03/30/20 | 85 FR 17660
NPRM Comment Period End | 06/29/20 |
NPRM Comment Period End | 06/29/20 |
Final Rule | 06/10/21 | 86 FR 31006
Correction | 06/17/21 | 86 FR 32185
Final Rule Effective | 08/09/21 |

Regulatory Flexibility Analysis Required: Yes.

Agency Contact: Christopher Morris, Department of Transportation, Federal Aviation Administration, 6500 S MacArthur Boulevard, Oklahoma City, OK 73169, Phone: 405 954-4646, Email: christopher.morris@faa.gov.

RIN: 2120-AK31

BILLING CODE 4910-13-P

DEPARTMENT OF TRANSPORTATION (DOT)

Federal Highway Administration (FHWA)

Proposed Rule Stage

348. • Incorporating Safety Into Federal-Aid Programs and Projects (Section 610 Review)

Legal Authority: 23 U.S.C. 109

Abstract: This rulemaking would establish new FHWA regulations to require safety integration across all Federal-aid highway programs and necessary mitigation on some or all Federal-aid highway projects. The new regulations would assist State agencies in making meaningful safety investments to save lives and reduce injuries on the Nation's highways.

Timetable:

Action | Date | FR Cite
NPRM | 05/00/22 |

Regulatory Flexibility Analysis Required: No.

Agency Contact: Phillip Bobitz, Department of Transportation, Federal Highway Administration, 1200 New Jersey Avenue SE, Washington, DC 20590, Phone: 717-221-4574, Email: phillip.bobitz@dot.gov.

RIN: 2125-AG08

BILLING CODE 4910-22-P

DEPARTMENT OF TRANSPORTATION (DOT)

Federal Motor Carrier Safety Administration (FMCSA)

Long-Term Actions

349. +Safety Monitoring System and Compliance Initiative for Mexico-Domiciled Motor Carriers Operating in the United States

Legal Authority: Pub. L. 107-87, sec. 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM, but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003.

Action | Date | FR Cite
NPRM | 05/03/01 | 66 FR 22415
NPRM Comment Period End | 07/02/01 |
Interim Final Rule | 03/19/02 | 67 FR 12758
Interim Final Rule Comment Period End | 04/18/02 |
Interim Final Rule Effective | 05/03/02 |
Notice of Intent to Prepare an EIS | 08/26/03 | 68 FR 51322
EIS Public Scoping Meetings | 10/08/03 | 68 FR 58162
Next Action Undetermined

Regulatory Flexibility Analysis Required: Yes.

Agency Contact: Sarah Stella, Division Chief, Department of Transportation, Federal Motor Carrier Safety Administration, 1200 New Jersey Avenue SE, Washington, DC 20590, Phone: 202 493-0192, Email: sarah.stella@dot.gov.

RIN: 2126-AA35

DEPARTMENT OF TRANSPORTATION (DOT)

Federal Motor Carrier Safety Administration (FMCSA)

Completed Actions

350. Controlled Substances and Alcohol Testing: State Driver's Licensing Agency Downgrade of Commercial Driver's License (Completion of a Section 610 Review)

Legal Authority: 49 U.S.C. 31136(a); 49 U.S.C. 31305(a)

Abstract: FMCSA is amending its regulations to establish requirements for State Driver's Licensing Agencies (SDLAs) to access and use information obtained through the Drug and Alcohol Clearinghouse (DACH or Clearinghouse), an FMCSA-administered database containing driver-specific controlled substance (drug) and alcohol records. SDLAs must not issue, renew, upgrade, or transfer a commercial driver's license (CDL), or commercial learner's permit (CLP), as applicable, for any individual prohibited under FMCSA's regulations from performing safety-sensitive functions, including driving a commercial motor vehicle (CMV), due to one or more drug and alcohol program violations.

Further, SDLAs must remove the CLP or CDL privilege from the driver's license of an individual subject to the CMV driving prohibition, which would result in a downgrade of the license until the driver complies with return-to-duty (RTD) requirements. This rule also requires States receiving Motor Carrier Safety Assistance Program (MCSAP) grant funds to adopt a compatible CMV driving prohibition applicable to CLP and CDL holders who violate FMCSA's drug and alcohol program requirements, and makes clarifying and conforming changes to current regulations. The final rule will help keep unsafe drivers off the road by increasing compliance with the CMV driving prohibition.

Timetable:

Action | Date | FR Cite
NPRM | 04/28/20 | 85 FR 23670
Final Rule | 10/07/21 | 86 FR 55718
Final Rule; Correction | 10/29/21 | 86 FR 59871
Final Rule Effective | 11/08/21 |

Regulatory Flexibility Analysis Required: No.

Agency Contact: Gian Marshall, Management and Program Analyst, Department of Transportation, Federal Motor Carrier Safety Administration, 1200 New Jersey Avenue SE, Washington, DC 20590, Phone: 202 366-0928, Email: gian.marshall@dot.gov.

RIN: 2126-AC11

BILLING CODE 4910-EX-P

DEPARTMENT OF TRANSPORTATION (DOT)

Federal Railroad Administration (FRA)

Proposed Rule Stage

351. +Train Crew Staffing

Regulatory Plan: This entry is Seq. No. 139 in part II of this issue of the Federal Register.

RIN: 2130-AC88

BILLING CODE 4910-06-P

DEPARTMENT OF TRANSPORTATION (DOT)

Saint Lawrence Seaway Development Corporation (SLSDC)

Proposed Rule Stage

352. • Seaway Regulations and Rules: Periodic Update, Various Categories (Rulemaking Resulting From a Section 610 Review)

Legal Authority: 33 U.S.C. 981 et seq.

Abstract: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories.

Timetable:

Action | Date | FR Cite
NPRM | 11/00/21 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA51

353. • Tariff Of Tolls (Rulemaking Resulting From a Section 610 Review)

Legal Authority: 33 U.S.C. 981 et seq.

Abstract: The Great Lakes St. Lawrence Seaway Development Corporation (GLS) and the St. Lawrence Seaway Management Corporation (SLSMC) of Canada, under international agreement, jointly publish and presently administer the St. Lawrence Seaway Tariff of Tolls in their respective jurisdictions. The Tariff sets forth the level of tolls assessed on all commodities and vessels transiting the facilities operated by the GLS and the SLSMC.

Timetable:

Action | Date | FR Cite
NPRM | 11/00/21 |

Regulatory Flexibility Analysis Required: No.

Agency Contact: Michal Chwedczuk, Department of Transportation, Saint Lawrence Seaway Development Corporation, 1200 New Jersey Avenue SE, Washington, DC 20590, Phone: 202 366-0091, Email: michal.chwedczuk@dot.gov.

RIN: 2135-AA52

BILLING CODE 4910-61-P

DEPARTMENT OF TRANSPORTATION (DOT)

Pipeline and Hazardous Materials Safety Administration (PHMSA)

Proposed Rule Stage

354. +Pipeline Safety: Gas Pipeline Leak Detection and Repair

Legal Authority: 49 U.S.C. 60101 et seq.

Abstract: This rulemaking would amend the pipeline safety regulations to enhance requirements for detecting and repairing leaks on new and existing natural gas distribution, gas transmission, and gas gathering pipelines. The proposed rule is necessary to respond to a mandate from section 113 of the Protecting our Infrastructure of Pipelines and Enhancing Safety Act of 2020.

Timetable:

Action | Date | FR Cite
NPRM | 05/00/22 |

Regulatory Flexibility Analysis Required: Yes.

Agency Contact: Sayler Palabrica, Department of Transportation, Pipeline and Hazardous Materials Safety Administration, 1200 New Jersey Avenue SE, District of Columbia, DC 20590, Phone: 202-366-0559, Email: sayler.palabrica@dot.gov.

RIN: 2137-AF51

355. +Pipeline Safety: Safety of Gas Distribution Pipelines

Legal Authority: 49 U.S.C. 60101 et seq.

Abstract: This rulemaking would amend the pipeline safety regulations to enhance the safety requirements for gas distribution pipelines. The proposed rule is necessary to respond to several mandates from title II of the Protecting our Infrastructure of Pipelines and Enhancing Safety Act of 2020 (PIPES Act of 2020).

Timetable:

Action | Date | FR Cite
NPRM | 07/00/22 |

Regulatory Flexibility Analysis Required: Yes.

Agency Contact: Ashlin Bollacker, Technical Writer, Department of Transportation, Pipeline and Hazardous Materials Safety Administration, 1200 New Jersey Avenue SE, Washington DC, DC 20590, Phone: 202-366-4203, Email: ashlin.bollacker@dot.gov.

RIN: 2137-AF53

DEPARTMENT OF TRANSPORTATION (DOT)

Pipeline and Hazardous Materials Safety Administration (PHMSA)

Final Rule Stage

356. +Pipeline Safety: Amendments to Parts 192 and 195 To Require Valve Installation and Minimum Rupture Detection Standards

Legal Authority: 49 U.S.C. 60101 et seq.

Abstract: This rulemaking action would revise the Pipeline Safety Regulations applicable to most newly constructed and entirely replaced onshore natural gas transmission and hazardous liquid pipelines to improve rupture mitigation and shorten pipeline segment isolation times. The rulemaking action would define “notification of potential rupture” and outline certain performance standards related to rupture identification and pipeline segment isolation. This rulemaking action also would require specific valve maintenance and inspection requirements, and 9-1-1 notification requirements to help operators achieve better rupture response and mitigation.

Timetable:

Action | Date | FR Cite
NPRM | 02/06/20 | 85 FR 7162
NPRM Comment Period End | 04/06/20 |
Final Rule | 02/00/22 |

Regulatory Flexibility Analysis Required: Yes.

Agency Contact: Robert Jagger, Technical Writer, Department of Transportation, Pipeline and Hazardous Materials Safety Administration, 1200 New Jersey Avenue, Washington, DC 20590, Phone: 202-366-4595, Email: robert.jagger@dot.gov.

RIN: 2137-AF06

357. +Hazardous Materials: Enhanced Safety Provisions for Lithium Batteries Transported by Aircraft (FAA Reauthorization Act of 2018)

Legal Authority: 49 U.S.C. 44701; 49 U.S.C. 5103(b); 49 U.S.C. 5120(b)

Abstract: This rulemaking amends the Hazardous Materials Regulations (HMR) to (1) prohibit the transport of lithium ion cells and batteries as cargo on passenger aircraft; (2) require all lithium ion cells and batteries to be shipped at not more than a 30 percent state of charge on cargo-only aircraft; and (3) limit the use of alternative provisions for small lithium cell or battery to one package per consignment. The amendments do not restrict passengers or crew members from bringing personal items or electronic devices containing lithium cells or batteries aboard aircraft, or restrict the air transport of lithium ion cells or batteries when packed with or contained in equipment. To accommodate persons in areas potentially not serviced daily by cargo aircraft, PHMSA provides a limited exception for not more than two replacement lithium cells or batteries specifically used for medical devices to be transported by passenger aircraft and at a state of charge greater than 30 percent, under certain conditions and as approved by the Associate Administrator. This rulemaking is necessary to meet the FAA Reauthorization Act of 2018, address a safety hazard, and harmonize the HMR with emergency amendments to the 2015-2016 edition of the International Civil Aviation Organization's Technical Instructions for the Safe Transport of Dangerous Goods by Air.

Timetable:

Action | Date | FR Cite
Interim Final Rule | 03/06/19 | 84 FR 8006
Interim Final Rule Effective | 03/06/19 |
Interim Final Rule Comment Period End | 05/06/19 |
Final Rule | 02/00/22 |

Regulatory Flexibility Analysis Required: Yes.

Agency Contact: Shelby Geller, Transportation Regulations Specialist, Transportation & Security, 1200 New Jersey Avenue SE, Washington, DC 20590, Phone: 202 366-8553, Email: shelby.h.geller@omb.eop.gov.

RIN: 2137-AF20

DEPARTMENT OF TRANSPORTATION (DOT)

Pipeline and Hazardous Materials Safety Administration (PHMSA)

Long-Term Actions

358. +Pipeline Safety: Pipeline Operational Status

Legal Authority: 49 U.S.C. 60101 et seq.

Abstract: This rulemaking would amend the pipeline safety regulations to define an idled operational status for natural gas and hazardous liquid pipelines that are temporarily removed from service, set operations and maintenance requirements for idled pipelines, and establish inspection requirements for idled pipelines that are returned to service. The proposed rule is necessary to respond to a mandate from the Protecting our Infrastructure of Pipelines and Enhancing Safety Act of 2020.

Timetable:

Action | Date | FR Cite
NPRM | 04/00/23 |

Regulatory Flexibility Analysis Required: Yes.

Agency Contact: Sayler Palabrica, Department of Transportation, Pipeline and Hazardous Materials Safety Administration, 1200 New Jersey Avenue SE, District of Columbia, DC 20590, Phone: 202-366-0559, Email: sayler.palabrica@dot.gov.

RIN: 2137-AF52

[FR Doc. 2021-27948 Filed 1-28-22; 8:45 am]

BILLING CODE 4910-60-P